DEPARTMENT OF TRANSPORTATION

Federal Aviation Administration

14 CFR Part 39

[Docket No. FAA-2005-23025; Directorate Identifier 2005-CE-50-AD; Amendment 39-14390; AD 2005-24-10]

RIN 2120-AA64

Airworthiness Directives; American Champion Aircraft Corporation Models 7AC, 7ACA, S7AC, 7BCM, 7CCM, S7CCM, 7DC, S7DC, 7EC, S7EC, 7ECA, 7FC, 7GC, 7GCA, 7GCAA, 7GCB, 7GCBA, 7GCBC, 7HC, 7JC, 7KC, 7KCAB, 8KCAB, and 8GCBC Airplanes

AGENCY: Federal Aviation Administration (FAA), DOT.

ACTION: Final rule; request for comments.

SUMMARY: The FAA is adopting a new airworthiness directive (AD) for certain American Champion Aircraft Corporation (ACAC) Models 7AC, 7ACA, S7AC, 7BCM, 7CCM, S7CCM, 7DC, S7DC, 7EC, S7EC, 7ECA, 7FC, 7GC, 7GCA, 7GCAA, 7GCB, 7GCBA, 7GCBC, 7HC, 7JC, 7KC, 7KCAB, 8KCAB, and 8GCBC airplanes. This AD requires you to make a temporary Pilot's Operating Handbook (POH) limitation entry or install a temporary placard prohibiting aerobatic flight if you operate the airplane before the required inspection of this AD; inspect for incorrect swaging width of the cable Nicopress sleeves on the elevator, rudder, aileron, and flap control cables; replace cables that have incorrect sleeve swage width; remove POH limitation or placard prohibiting aerobatic flight after inspection and replacement of cables with incorrect sleeve swage width; and report any findings of incorrect sleeve swage width to FAA. This AD results from partial loss of aileron control because an incorrectly swaged cable sleeve allowed the cable to slip. We are issuing this AD to detect and correct incorrect swaging widths of the flight control cable Nicopress sleeves, which could result in failure of the elevator, rudder, aileron, and flap controls. This failure could lead to loss of control of the airplane.

DATES: This AD becomes effective on January 17, 2006.

As of January 17, 2006, the Director of the Federal Register approved the incorporation by reference of certain publications listed in the regulation.

We must receive any comments on this AD by February 14, 2006.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact American Champion Aircraft Corporation, P.O. Box 37, 32032 Washington Avenue, Rochester, WI 53167; telephone: (262) 534-6315; internet address: http://www.amerchampionaircraft.com.

To view the comments to this AD, go to http://dms.dot.gov. The docket number is FAA-2005-23025; Directorate Identifier 2005-CE-50-AD.

FOR FURTHER INFORMATION CONTACT: Wess Rouse, Small Airplane Project Manager, ACE-117C, Chicago Aircraft Certification Office, 2300 East Devon Avenue, Room 107, Des Plaines, Illinois 60018; telephone: 847-294-8113; facsimile: (847) 294-7834; e-mail: Wess.Rouse@faa.gov.

SUPPLEMENTARY INFORMATION: What events have caused this AD? During a flight, the pilot of an ACAC Model 7KCAB noticed partial loss of aileron control and landed at the nearest airport. The Nicopress sleeve on the cable was incorrectly swaged, allowing the cable to slip within the sleeve. A replacement aileron control cable manufactured by ACAC had been installed on the airplane before the occurrence.

What is the potential impact if FAA took no action? Incorrect swaging width of the flight control cable Nicopress sleeves could result in failure of the elevator, rudder, aileron, and/or flap controls. This failure could lead to loss of control of the airplane.

Is there service information that applies to this subject? ACAC issued Service Letter No. 427, Revision B, dated November 29, 2005.

What are the provisions of this service information? The service bulletin includes procedures for:

—Inspecting the flight control cables for correct swaging of the Nicopress sleeves;

—Replacing flight control cables that have incorrect swaging of the Nicopress sleeves; and

—Recording cable inspection with a logbook entry.

FAA's Determination and Requirements of the AD

What has FAA decided? We have evaluated all pertinent information and identified an unsafe condition that is likely to exist or develop on other products of this same type design.

Since the unsafe condition described previously is likely to exist or develop on other ACAC Models 7AC, 7ACA, S7AC, 7BCM, 7CCM, S7CCM, 7DC, S7DC, 7EC, S7EC, 7ECA, 7FC, 7GC, 7GCA, 7GCAA, 7GCB, 7GCBA, 7GCBC, 7HC, 7JC, 7KC, 7KCAB, 8KCAB, and 8GCBC airplanes of the same type design, we are issuing this AD to detect and correct incorrect swaging width of the flight control cable Nicopress sleeves, which could result in failure of the elevator, rudder, aileron, and flap controls. This failure could lead to loss of control of the airplane.

What does this AD require? This AD requires you to make a temporary Pilot's Operating Handbook (POH) limitation entry or install a temporary placard prohibiting aerobatic flight if you operate the airplane before the required inspection of this AD; inspect for incorrect swaging width of the cable Nicopress sleeves on the elevator, rudder, aileron, and flap control cables; replace cables that have incorrect sleeve swage width; remove POH limitation or placard prohibiting aerobatic flight after inspection and replacement of cables with incorrect sleeve swage width; and report any findings of incorrect sleeve swage widths to FAA.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “Docket No. FAA-2005-23025; Directorate Identifier 2005-CE-50-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “AD Docket FAA-2005-23025; Directorate Identifier 2005-CE-50-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-24-10 American Champion Aircraft Corp.: Amendment 39-14390; Docket No. FAA-2005-23025; Directorate Identifier 2005-CE-50-AD.

When Does This AD Become Effective?

(a) This AD becomes effective on January 17, 2006.

Are Any Other ADs Affected by This Action?

(b) None.

What Airplanes Are Affected by This AD?

(c) This AD affects the following airplane models, all serial numbers, that are certificated in any category:

Models
(1) 7ECA, 7GCAA, 7GCBC, 8KCAB, and 8GCBC that:
(i) were manufactured before August 12, 2005; and
(ii) have less than 250 hours time-in-service (TIS).
(2) 7AC, 7ACA, S7AC, 7BCM, 7CCM, S7CCM, 7DC, S7DC, 7EC, S7EC, 7ECA, 7FC, 7GC, 7GCA, 7GCAA, 7GCB, 7GCBA, 7GCBC, 7HC, 7JC, 7KC, 7KCAB, 8KCAB, and 8GCBC that:
(i) have installed a flight control cable (or flight control cable included in a wing retrofit kit) that was purchased from American Champion Aircraft Corp. (ACAC) before August 12, 2005; and
(ii) have less than 250 hours TIS since the above installation.

What Is the Unsafe Condition Presented in This AD?

(d) This AD is the result of partial loss of aileron control because an incorrectly swaged cable sleeve allowed the cable to slip. We are issuing this AD to detect and correct incorrect swaging width of the flight control cable Nicopress sleeves, which could result in failure of the elevator, rudder, aileron, and flap controls. This failure could lead to loss of control of the airplane.

What Must I Do To Address This Problem?

(e) To address this problem, you must do the following:

Actions | Compliance | Procedures
(1) If you operate the airplane before the inspection required in paragraph (e)(2) of this AD, do one of the following: (i) Fabricate (using letters at least ⅛-inch in height) a warning placard with the following language and install this placard in the cockpit in full view of the pilot: “Acrobatic flight prohibited!”; or (ii) Add the following statement to the Limitations Section of the Pilots Operating Handbook (POH): “Acrobatic flight prohibited until the inspection and replacement requirements of AD 2005-24-10 are done.” To do this, you may insert a copy of this AD into the Limitations Section of the POH. | Before further flight after January 17, 2006 (the effective date of this AD) | No specific procedures are necessary for this action. The owner/operator holding at least a private pilot certificate as authorized by section 43.7 of the Federal Aviation Regulations (14 CFR 43.7) may do the placard or POH requirements. Make an entry into the aircraft records showing compliance with these portions of the AD in accordance with section 43.9 of the Federal Aviation Regulations (14 CFR 43.9).
(2) Inspect the Nicopress sleeves on the following flight control cables for the correct width. Each sleeve has three swages or crimps and must not exceed a maximum width of 0.354 inches: | Within 25 hours TIS after January 17, 2006 (the effective date of this AD) | Follow ACAC Service Letter #427, Revision B, dated November 29, 2005.
(i) Elevator cables in 6 locations;
(ii) Rudder cables in 4 locations;
(iii) Aileron cables in 12 locations; and
(iv) Flap cables in 6 locations.
(3) If you find any flight control cable Nicopress swages of incorrect width during the inspection required in paragraph (e)(2) of this AD, replace the affected cables | Within 25 hours TIS after January 17, 2006 (the effective date of this AD) | Follow ACAC Service Letter #427, Revision B, dated November 29, 2005.
(4) If you performed the actions in paragraph (e)(1) of this AD, remove the temporary placard or POH limitation after completing the actions required in paragraphs (e)(2) and (e)(3) of this AD | After completing the actions required in paragraphs (e)(2) and (e)(3) of this AD | No specific procedures are necessary for this action. The owner/operator holding at least a private pilot certificate as authorized by section 43.7 of the Federal Aviation Regulations (14 CFR 43.7) may do the placard or POH requirements. Make an entry into the aircraft records showing compliance with these portions of the AD in accordance with section 43.9 of the Federal Aviation Regulations (14 CFR 43.9).
(5) If you find any flight control cable Nicopress swages of incorrect width during the inspection required in paragraph (e)(2) of this AD, report the findings to FAA. The Office of Management and Budget (OMB) approved the information collection requirements contained in this regulation under the provisions of the Paperwork Reduction Act of 1980 (44 U.S.C. 3501 and those following sections) and assigned OMB Control Number 2120-0056 | Within 10 days after the incorrect swage widths are found or within 10 days after January 17, 2006 (the effective date of this AD), whichever occurs later | Include in your report the aircraft model, TIS of the flight control cable Nicopress swage, which cable swage was affected and its location, corrective action taken, and a point of contact name and phone number. Send your report to Wess Rouse, Small Airplane Project Manager, ACE-117C, Chicago Aircraft Certification Office, 2300 East Devon Avenue, Room 107, Des Plaines, Illinois 60018; facsimile: (847) 294-7834; e-mail: Wess.Rouse@faa.gov.

May I Request an Alternative Method of Compliance?

(f) You may request a different method of compliance or a different compliance time for this AD by following the procedures in 14 CFR 39.19. Unless FAA authorizes otherwise, send your request to your principal inspector. The principal inspector may add comments and will send your request to the Manager, Chicago Aircraft Certification Office, FAA. For information on any already approved alternative methods of compliance, contact Wess Rouse, Small Airplane Project Manager, ACE-117C, Chicago Aircraft Certification Office, 2300 East Devon Avenue, Room 107, Des Plaines, Illinois 60018; telephone: 847-294-8113; facsimile: (847) 294-7834; e-mail: Wess.Rouse@faa.gov.

Does This AD Incorporate Any Material by Reference?

(g) You must do the actions required by this AD following the instructions in ACAC Service Letter # 427, Revision B, dated November 29, 2005. The Director of the Federal Register approved the incorporation by reference of this service bulletin in accordance with 5 U.S.C. 552(a) and 1 CFR part 51. To get a copy of this service information, contact American Champion Aircraft Corporation, P.O. Box 37, 32032 Washington Avenue, Rochester, WI 53167; telephone: (262) 534-6315; Internet address: www.amerchampionaircraft.com. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-23025; Directorate Identifier 2005-CE-50-AD.

Issued in Kansas City, Missouri, on December 23, 2005.
Kim Smith,
Manager, Small Airplane Directorate, Aircraft Certification Service.

[FR Doc. 06-49 Filed 1-6-06; 8:45 am]

BILLING CODE 4910-13-P